ELECTION ASSISTANCE COMMISSION

Sunshine Act Notice

Agency: United States Election Assistance Commission.

Action: Notice of public meeting.

Date & Time: Thursday, March 20, 2008, 8:30 a.m.-2 p.m. (MST).

Place: Hyatt Regency Denver, 650 15th Street, Denver, Colorado 80202, (303) 436-1234.

Agenda: The Commission will hear updates on the following topics: Election Management Guidelines Update; Election Data Survey Update. The Commission will receive a briefing on audits and state plans from the National Association of State Election Directors (NASED); The Commission will consider accepting the following items: Voter Hotline Study; UOCAVA Voters' Study (Uniformed and Overseas Citizens Absentee Voting Act). The Commission will consider and vote on the following items: consideration and vote on changes to the state specific instructions on the national voter registration form; consideration and vote on proposed policy clarification on the allowable uses of HAVA funds. The Commission will consider other administrative matters.

This meeting will be open to the public.

Person to Contact for Information: Bryan Whitener, Telephone: (202) 566-3100.

* * * * *

Thomas R. Wilkey,
Executive Director, U.S. Election Assistance Commission.

[FR Doc. 08-1024 Filed 3-10-08; 3:41 pm]

BILLING CODE 6820-KF-M